DEPARTMENT OF HEALTH AND HUMAN SERVICES

Office of the Secretary

45 CFR Part 162

[CMS-0003-F and CMS-0005-F]

RINs 0938-AK64 and 0938-AK76

Health Insurance Reform: Modifications to Electronic Data Transaction Standards and Code Sets

Correction

In rule document 03-3876 beginning on page 8381 in the issue of Thursday, February 20, 2003, make the following corrections:

1. On page 8396, in the second column, the part head is corrected to read as follows: PART 162—ADMINISTRATIVE REQUIREMENTSÿ7E.

§162.1102 [Corrected]

2. On page 8397, in the third column, in §162.1102, paragraph (b) should read, “For the period on and after October 16, 2003”.

3. On page 8398, in the first column, in the same section, the heading for paragraph (b)(3) should read, “ Professional health care claims”.

4. On the same page, in the same column, in the same section, in paragraph (b)(4), in the fifth line, after “004010X096” add the following text “and Addenda to Health Care Claim: Institutional, Volumes 1 and 2, Version 4010, October 2002, Washington Publishing Company, 004010X096A1.”

§162.1202 [Corrected]

5. On page 8398, in §162.1202, in the first column, paragraphs (b)(1) and (2) should read be removed.

[FR Doc. C3-3876 Filed 3-7-03; 8:45 am]

BILLING CODE 1505-01-D